FEDERAL RETIREMENT THRIFT INVESTMENT BOARD

Notice of Board Meeting

DATES: September 25, 2025, at 10:00 a.m. ET.

ADDRESSES: Telephonic. Dial-in (listen only) information: Number: 1-202-599-1426, Code: 898 629 079#; or via web: https://www.frtib.gov/.

FOR FURTHER INFORMATION CONTACT: James Kaplan, Director, Office of External Affairs, (202) 864-7150.

SUPPLEMENTARY INFORMATION:

Board Meeting Agenda

Open Session

1. Approval of the August 26, 2025, Board Meeting Minutes

2. Investment Manager Annual Service Review

3. Monthly Reports

(a) Participant Report

(b) Investment Report

(c) Legislative Report

4. Quarterly Reports

(d) Vendor Risk Management

Closed Session

5. Information covered under 5 U.S.C. 552b(c)(9)(B) and (c)(10)

Authority: 5 U.S.C. 552b (e)(1).

Dated: September 12, 2025.
Dharmesh Vashee,
General Counsel, Federal Retirement Thrift Investment Board.

[FR Doc. 2025-17856 Filed 9-15-25; 8:45 am]

BILLING CODE P